DEPARTMENT OF COMMERCE

National Oceanic and Atmospheric Administration

[I.D. 013004C]

Marine Mammals; File Nos. 655-1652 and 775-1600

AGENCY: National Marine Fisheries Service (NMFS), National Oceanic and Atmospheric Administration (NOAA), Commerce.

ACTION: Issuance of permit and permit amendment.

SUMMARY: Notice is hereby given that Scott D. Kraus, Ph.D., Edgerton Research Laboratory, New England Aquarium, Central Wharf, Boston, MA 02110-3309 has been issued a permit to take northern right whales (Eubalaena glacialis) for purposes of scientific research. The Northeast Fisheries Science Center, NMFS,166 Water Street, Woods Hole, Massachusetts 02543-1026 [Principal Investigator (PI): Dr. John Boreman] has been issued a major amendment to Permit No. 775-1600-06 to take northern right whales for purposes of scientific research.

ADDRESSES: The permit, permit amendment, and related documents are available for review upon written request or by appointment in the following office(s):

Permits, Conservation and Education Division, Office of Protected Resources, NMFS, 1315 East-West Highway, Room 13705, Silver Spring, MD 20910; phone (301)713-2289; fax (301)713-0376;

Northeast Region, NMFS, One Blackburn Drive, Gloucester, MA 01930-2298; phone (978)281-9200; fax (978)281-9371;

Southeast Region, NMFS, 9721 Executive Center Drive North, St. Petersburg, FL 33702-2432; phone (727)570-5301; fax (727)570-5320.

FOR FURTHER INFORMATION CONTACT: Dr. Tammy Adams or Ruth Johnson, (301)713-2289.

SUPPLEMENTARY INFORMATION: File No. 655-1652. On October 16, 2001, notice was published in the Federal Register (66 FR 52594) that a request for a scientific research permit to take northern right whales had been submitted by the above-named individual. The requested permit has been issued under the authority of the Marine Mammal Protection Act of 1972, as amended (16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR parts 222-226).

Permit No. 65-1652-00 authorizes Dr. Kraus to conduct research involving monitoring the health and status of North Atlantic right whales, including aerial and shipboard surveys, photo-identification, remote biopsy sampling, attachment of scientific instruments, and blubber ultrasound measurements. Up to 300 whales per year may be taken for up to five years.

File No. 775-1600. On October 27, 2000, notice was published in the Federal Register (65 FR 64432) that a request for a scientific research permit to take seven species of baleen whale, 21 species of odontocetes, and four species of pinnipeds had been submitted by the above-named organization. Permit No. 775-1600-00 was issued on March 6, 2001 (66 FR 14135) and subsequently amended six times for various reasons. Permit No. 775-1600-00 and its subsequent amendments prohibited biopsy sampling of right whale calves less than six months old and females accompanied by such calves. The Permit Holders requested reconsideration of this prohibition and provided additional information in support of their request to biopsy sample calves of any age (except newborns) and females accompanied by such calves. NMFS did not publish a notice in the Federal Register regarding receipt of the request because the original application, which was available for public review and comment, requested such authorization. The requested permit amendment has been issued under the authority of the Marine Mammal Protection Act of 1972, as amended (16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR parts 222-226).

Issuance of this permit and permit amendment, as required by the ESA, was based on a finding that such permit and permit amendment (1) were applied for in good faith, (2) will not operate to the disadvantage of the endangered species which is the subject of this permit, and (3) are consistent with the purposes and policies set forth in section 2 of the ESA.

Dated: March 1, 2004.
Stephen L. Leathery,
Chief, Permits, Conservation and Education Division, Office of Protected Resources, National Marine Fisheries Service.

[FR Doc. 04-5189 Filed 3-5-04; 8:45 am]

BILLING CODE 3510-22-S